Proclamation 8745 of November 1, 2011

National Alzheimer’s Disease Awareness Month, 2011

By the President of the United States of America

A Proclamation

For millions of Americans, the heartbreak of watching a loved one struggle with Alzheimer’s disease is a pain they know all too well. Alzheimer’s disease burdens an increasing number of our Nation’s elders and their families, and it is essential that we confront the challenge it poses to our public health. During National Alzheimer’s Disease Awareness Month, we stand united in our commitment to improve care for Alzheimer’s patients, identify new therapies for the disease, and support all those whose lives have been touched by this tragic ailment.

As we confront the challenges of supporting an aging population, my Administration is dedicated to advancing research that brings us closer to understanding and treating Alzheimer’s disease. In January, I signed the National Alzheimer’s Project Act, which calls for an aggressive and coordinated national strategy to enable earlier diagnosis of the disease, improve strategies for long-term care, and accelerate the search for a cure by promoting collaboration among researchers. The Act also establishes an Advisory Council on Alzheimer’s Research, Care, and Services, which brings together some of our Nation’s foremost experts on Alzheimer’s disease to ensure our efforts do the most good for patients and their families.

My Administration, in collaboration with a variety of private and public partners, is making headway in the fight to eliminate Alzheimer’s disease. Research funded by the National Institutes of Health has identified genetic markers that may indicate increased risk of developing Alzheimer’s, and researchers across our Nation and around the world continue to shed new light on the disease. These discoveries bring us closer than ever to lifting the immense physical, emotional, and financial burdens that Alzheimer’s disease imposes upon aging Americans and their families.

This month, we remember the Americans we have lost to Alzheimer’s disease, and we stand with the individuals and families who have felt the pain and sorrow brought in its wake. In light of their hardship, let us make every effort to support the families, caregivers, medical professionals, and researchers who improve the lives of those affected by this disease. We join them in looking toward a future free of Alzheimer’s disease, and we recommit to making that vision a reality.

NOW, THEREFORE, I, BARACK OBAMA, President of the United States of America, by virtue of the authority vested in me by the Constitution and the laws of the United States, do hereby proclaim November 2011 as National Alzheimer’s Disease Awareness Month. I call upon the people of the United States to learn more about Alzheimer’s disease and to offer their support to the individuals living with this disease and to their caregivers.

IN WITNESS WHEREOF, I have hereunto set my hand this first day of November, in the year of our Lord two thousand eleven, and of the Independence of the United States of America the two hundred and thirty-sixth.

[FR Doc. 2011-28840

Filed 11-3-11; 11:15 am]

Billing code 3295-F2-P